DEPARTMENT OF JUSTICE

Antitrust Division

Notice Pursuant to the National Cooperative Research and Production Act of 1933—The National Center for Manufacturing Sciences, Inc.

Notice is hereby given that, on May 15, 2001, pursuant to section 6(a) of the National Cooperative Research and Production Act of 1993, 15 U.S.C. 4301 et seq. (“the Act”), the National Center for Manufacturing Sciences, Inc. has filed written notifications simultaneously with the Attorney General and the Federal Trade Commission disclosing changes in its membership status. The notifications were filed for the purpose of extending the Act's provisions limiting the recovery of antitrust plaintiffs to actual damages under specified circumstances.

Specifically, Automated Precision Inc., Gaithersburg, MD; Cincinnati Machine Division of Unova, Inc., Cincinnati, OH; CoCreate Software, Inc., Fort Collins, CO; ComauPico, Inc., Southfield, MI; Defense Modeling and Simulation Office of the U.S. Department of Defense, Alexandria, VA; Electronic Data Systems, Inc, Troy, MI; Holagent Corporation, Gilroy, CA; Hydrogen Technology Applications, Inc, Clearwater, FL; Johann A. Krause Inc., Auburn Hills, MI; Johnson Controls, Inc., Plymouth, MI; LFX Technologies LLC, Bloom field Hills, MI; Manufacturing Resources, Inc., Cleveland, OH; Michigan Technological University, Houghton, MI; Sulzer Metco Inc., Westbury, NY; and Tecumseh Products Company, Tecumseh, MI have been added as parties to this venture.

Also, Aesop, Inc., Concord, NH; American Induction Heating Corporation, Fraser, MI; Ascent Logic Corporation, Northville, MI; Auto-Air Composites, Inc., Lansing, MI; Bencyn West LLC, North Highlands, CA; Center for Clean Industrial and Treatment Technologies (CenCITT), Houghton, MI; Corning, Inc., NY; Dow-United Technologies Composite Products, Inc., Wallingford, CT; Eaton Corporation, Cleveland, OH; FileNET Corporation, Denver, CO; The Federal Trchnology Center, North Highlands, CA; Flame Spray Industries, Inc., Port Wahington, NY; Gensym Corporation, Cambridge, MA; Hewlett-Packard Company, Kirkland, Quebec, CANADA; IBD, Inc., Winnetka, IL; Indium Corporation of America, Utica, NY; Information Transport Associates, Inc., Annapolis, MD; Iowa State University, Ames, IA; Michigan Virtual Automotive College, Ann Arbor, MI; Midwest Manufacturing Technology Corporation, St. Louis, MO; Minnesota Technology, Inc., St. Cloud, MN; MSC Software Corporation, Costa Mesa, CA; MSE Technology Applications, Inc., Butte, MT; Progressive Tool & Industries Company, Southfield, MI; Remmele Engineering, Inc., Big Lake, MN; Schafer Corporation, Albuquerque, NM; Setco Industries, Inc., Cincinnati, OH; Teknowledge Corporation, Palo Alto, CA; Trellis Software and Controls, Inc., Rochester Hills, MI; Trust Data Solutions, San Jose, CA; TRW Integrated SupplyChain Solutions, Reston, VA; University of New Hampshire, Durham, NH; and UNOVA-Industrial Automation Systems, Cincinnati, OH have been dropped as parties to this venture.

No other changes have been made in either the membership or planned activity of the group research project. Membership in this group research project remains open, and the National Center for Manufacturing Sciences, Inc. intends to file additional written notification disclosing all changes in membership.

On February 20, 1987, the National Center for Manufacturing Sciences, Inc. filed its original notification pursuant to section 6(a) of the Act. The Department of Justice published a notice in the Federal Register pursuant to section 6(b) of the Act on March 17, 1987 (52 FR 8375).

The last notification was filed with the Department on December 20, 2000. A notice has not yet been published in the Federal Register.

Constance K. Robinson,
Director of Operations, Antitrust Division.

[FR Doc. 01-15673 Filed 6-21-01; 8:45 am]

BILLING CODE 4410-11-M